DEPARTMENT OF DEFENSE

Office of the Secretary

[No. DoD-2007-OS-0075]

Proposed Collection; Comment Request

AGENCY: Defense Information Systems Agency (DISA), Department of Defense.

ACTION: Notice.

In compliance with Section 3506(c)(2)(A) of the Paperwork Reduction Act of 1995, the Defense Information Systems Agency announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 27, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Defense Information Systems Agency (DISA), P.O. Box 4502, Arlington, VA 22204-4502, ATTN: Rex Ridenhower or Mr. Robert Hons; call (703) 607-6265 or (703) 681-2069. Fax number is (703) 681-2782.

Title and OMB Number: Defense Information Systems Agency (DISA) Customer Satisfaction Surveys; OMB Control Number 0704-TBD.

Needs and Uses: The DISA Customer Satisfaction Surveys are tools used to measure satisfaction levels and obtain external customer feedback. The purpose of the surveys is to assess the level of service DISA provides to its current customers.

Affected Public: Business or other for-profit.

Annual Burden Hours: 60.

Number of Respondents: 600.

Responses per Respondent: 2.

Average Burden per Response: 5 minutes.

Frequency: On occasion.

SUPPLEMENTARY INFORMATION:

Summary of Information Collection

DISA provides computing services, telecommunications services, and acquisition services and operates and maintains crucial joint warfighting and related mission support, command, control, and communications systems. DISA products and services support the White House, President and Vice President, Office of the Secretary of Defense, Joint Staffs, military services, military commands, Defense and other Federal Government Agencies.

Dated: July 27, 2007.
Patricia L. Toppings,
Alternate OSD Federal Register Liaison Officer, Department of Defense.

[FR Doc. 07-4786 Filed 9-27-07; 8:45 am]

BILLING CODE 5001-06-M